DEPARTMENT OF ENERGY

Federal Energy Regulatory Commission

Combined Notice of Filings #1

Take notice that the Commission received the following electric rate filings:

Docket Numbers: ER10-2633-036; ER10-2717-036; ER10-2309-005; ER18-1960-001; ER10-1626-011.

Applicants: Birchwood Power Partners, L.P., EFS Parlin Holdings LLC, Elwood Energy, LLC, Tenaska Pennsylvania Partners, LLC, Tenaska Virginia Partners, LP.

Description: Notice of Change in Status of Birchwood Power Partners, L.P., et al.

Filed Date: 6/7/19.

Accession Number: 20190607-5150.

Comments Due: 5 p.m. ET 6/28/19.

Docket Numbers: ER11-2774-004.

Applicants: Virginia Electric and Power Company, Dominion Energy Generation Marketing, Inc., Dominion Energy Nuclear Connecticut, Inc., Dominion Bridgeport Fuel Cell, LLC, Dominion Energy South Carolina, Inc.

Description: Notice of Non-Material Change in Status of Dominion Resources Services, Inc., on behalf of Virginia Electric and Power Company, et al.

Filed Date: 6/7/19.

Accession Number: 20190607-5165.

Comments Due: 5 p.m. ET 6/28/19.

Docket Numbers: ER19-834-000.

Applicants: MDU Resources Group, Inc., Montana-Dakota Utilities Co.

Description: Response of MDU Resources Group, Inc. to May 22, 2019 Letter requesting additional information.

Filed Date: 6/7/19.

Accession Number: 20190607-5162.

Comments Due: 5 p.m. ET 6/28/19.

Docket Numbers: ER19-1276-000.

Applicants: Ameren Illinois Company.

Description: Motion to Intervene, Formal Challenge, and Request for Confidential Treatment of Southwestern Electric Cooperative, Inc.

Filed Date: 4/15/19.

Accession Number: 20190415-5267.

Comments Due: 5 p.m. ET 7/1/19.

Docket Numbers: ER19-1400-001.

Applicants: Emera Maine.

Description: Tariff Amendment: Deficency Response #1 (ER19-1400-000) to be effective 6/1/2019.

Filed Date: 6/7/19.

Accession Number: 20190607-5125.

Comments Due: 5 p.m. ET 6/28/19.

Docket Numbers: ER19-1470-001.

Applicants: ISO New England Inc., Emera Maine.

Description: Tariff Amendment: Emera Maine; Response to Deficiency Letter to be effective 6/1/2019.

Filed Date: 6/10/19.

Accession Number: 20190610-5046.

Comments Due: 5 p.m. ET 7/1/19.

Docket Numbers: ER19-2084-000.

Applicants: Public Service Company of Colorado.

Description: § 205(d) Rate Filing: 2019-06-07—Depreciation Rates & TCJA to be effective 1/1/2018.

Filed Date: 6/10/19.

Accession Number: 20190610-5000.

Comments Due: 5 p.m. ET 7/1/19.

Docket Numbers: ER19-2085-000.

Applicants: Citigroup Energy Canada ULC.

Description: Tariff Cancellation: Notice of Cancellation to be effective 6/11/2019.

Filed Date: 6/10/19.

Accession Number: 20190610-5038.

Comments Due: 5 p.m. ET 7/1/19.

Docket Numbers: ER19-2086-000.

Applicants: Wildflower Energy LP.

Description: § 205(d) Rate Filing: Revised Market-Based Rate Tariff to be effective 6/11/2019.

Filed Date: 6/10/19.

Accession Number: 20190610-5054.

Comments Due: 5 p.m. ET 7/1/19.

Docket Numbers: ER19-2087-000.

Applicants: Boston Energy Trading and Marketing LLC.

Description: § 205(d) Rate Filing: Revised Market-Based Rate Tariff to be effective 6/11/2019.

Filed Date: 6/10/19.

Accession Number: 20190610-5056.

Comments Due: 5 p.m. ET 7/1/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 10, 2019.
Kimberly D. Bose,
Secretary.

[FR Doc. 2019-12582 Filed 6-13-19; 8:45 am]

BILLING CODE 6717-01-P